DEPARTMENT OF TRANSPORTATION

National Highway Traffic Safety Administration

[Docket No. NHTSA-2007-27073; Notice 1]

Nissan North America, Inc., Receipt of Petition for Decision of Inconsequential Noncompliance

Nissan North America, Inc. (Nissan) has determined that the rims on certain vehicles that it produced in 2000 through 2005 do not comply with S5.2(a) and S5.2(c) of 49 CFR 571.120, Federal Motor Vehicle Safety Standard (FMVSS) No. 120, “Tire selection and rims for motor vehicles other than passenger cars.” Nissan has filed an appropriate report pursuant to 49 CFR Part 573, “Defect and Noncompliance Reports.”

Pursuant to 49 U.S.C. 30118(d) and 30120(h), Nissan has petitioned for an exemption from the notification and remedy requirements of 49 U.S.C. Chapter 301 on the basis that this noncompliance is inconsequential to motor vehicle safety.

This notice of receipt of Nissan's petition is published under 49 U.S.C. 30118 and 30120 and does not represent any agency decision or other exercise of judgment concerning the merits of the petition.

Affected are a total of approximately 5,000 optional dealer accessory wheels that have been sold and have been installed on approximately 1,250-model year 2000 through 2005 Nissan Xterra multipurpose passenger vehicles and Frontier pickup trucks. S5.2 of FMVSS No. 120, rim marking, requires that each rim be marked with certain information on the weather side, including:

S5.2(a) A designation which indicates the source of the rim's published nominal dimensions, and S5.2(c) the symbol DOT.

The rims installed on the affected vehicles do not contain the markings required by S5.2(a) or S5.2(c). Nissan has corrected the problem that caused these errors so that they will not be repeated in future production.

Nissan believes that the noncompliance is inconsequential to motor vehicle safety and that no corrective action is warranted. Nissan states that the affected rims are 16″x7″ aluminum alloy, which are commonly available and utilized in the United States. They are a correct specification for mounting 16″ original equipment tires specified for Xterra and Frontier models, and are capable of carrying the gross vehicle weight rating (GVWR) of the vehicle. Nissan first became aware of the noncompliance of these vehicles during a regulatory compliance review during March 2006.

Nissan states that no accidents or injuries have occurred, and no customer complaints have been received related to the lack of the markings or any problem that may have resulted from the lack of the markings. Nissan further states that the missing markings do not affect the performance of the wheels or the tire and wheel assemblies.

The rims are marked in compliance with S5.2(b), rim size designation; S5.2(d), manufacturer identification; and S5.2(e) month, day and year or month and year of manufacture. The rims are also marked with a 4030S RSD20-10/20 part number.

The tire size is marked on the tire sidewalls, and the owner's manual and tire inflation pressure placard contain the appropriate tire size to be installed on the original equipment rims. Therefore, Nissan does not believe there is a possibility of a tire and rim mismatch as a result of the missing rim markings. All other requirements under FMVSS No. 120 are met.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: March 19, 2007.

Authority: 49 U.S.C. 30118, 30120; delegations of authority at CFR 1.50 and 501.8.

Issued on: February 9, 2007.
Claude H. Harris,
Director, Office of Vehicle Safety Compliance.

[FR Doc. E7-2810 Filed 2-15-07; 8:45 am]

BILLING CODE 4910-59-P